NUCLEAR REGULATORY COMMISSION

[Docket No. 030-07188]

Notice of Environmental Assessment Related to the Issuance of a License Amendment to By-product Material License No. 21-05199-02, for Unrestricted Release of Former Facilities for the State of Michigan, Department of Environmental Quality, Lansing, MI

AGENCY: Nuclear Regulatory Commission.

ACTION: Issuance of Environmental Assessment and Finding of No Significant Impact for License Amendment.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by email at wgs@nrc.gov.

SUPPLEMENTARY INFORMATION: The U.S. Nuclear Regulatory Commission (NRC) is considering the issuance of an amendment to NRC By-product Materials License No. 21-05199-02, which is held by the State of Michigan, Department of Environmental Quality (licensee). The amendment would authorize the decommissioning and unrestricted release of the licensee's former facilities located at 3423 and 3500 N. Martin Luther King Jr. Blvd., Lansing, Michigan (the facilities). The NRC has prepared an Environmental Assessment in support of this action in accordance with the requirements of 10 CFR Part 51. Based on the Environmental Assessment, the NRC has determined that a Finding of No Significant Impact is appropriate. The amendment to the State of Michigan's Department of Environmental Quality license will be issued following the publication of this Environmental Assessment and Finding of No Significant Impact.

I. Environmental Assessment

Identification of Proposed Action

The proposed action would approve the State of Michigan's Department of Environmental Quality request to amend its license and release the facilities for unrestricted use in accordance with 10 CFR Part 20, Subpart E. The proposed action does not pertain to the licensee's radiological laboratory at 815 Terminal Road, in Lansing, Michigan, where licensed activities will continue. The proposed action is in accordance with the licensee's request to the U.S. Nuclear Regulatory Commission (NRC) to amend its license by letter dated February 28, 2007 (ADAMS Accession No. ML070590426). The State of Michigan's Department of Environmental Quality was first licensed to use by-product materials at its facilities at 3500 N. Martin Luther King Jr. Blvd. (formerly 3500 N. Logan) on June 30, 1964, and at 3423 N. Martin Luther King Jr. Blvd. on February 21, 1997. The licensee is authorized to use by-product materials for activities involving instrument calibration and for analysis of environmental samples. The licensee was authorized to use sealed sources at the facilities containing cesium-137, cobalt-60, americium-241, nickel-63, and strontium-90. Isotopes that were authorized for use at the facilities in an unsealed form included any by-product material up to a maximum of 100 millicuries at any one time.

At the 3500 N. Martin Luther King Jr. Blvd. address, the licensee used by-product materials in two buildings. The licensee analyzed environmental and special samples in its Nuclear Counting Facility in Building 44, and stored radiological materials in its Radioactive Material Storage Bunker in Building 20. The licensee ceased using the Nuclear Counting Laboratory and moved all calibration standards, environmental samples and special samples to its new radiological laboratory at 815 Terminal Road, Lansing, Michigan, prior to conducting final status surveys in November 2000 to verify that the 3500 N. Martin Luther King Jr. Blvd. facility could be released for unrestricted use.

In October 2000, the Michigan Department of Public Health requested the NRC terminate its SUB-1385 license, which also authorized the use of radioactive material in the Radioactive Material Storage Bunker in Building 20. The Michigan Department of Public Health provided a Final Status Survey Report that documented that the Radioactive Material Storage Bunker in Building 20 had been surveyed for residual contamination in 1998 and was acceptable for unrestricted use. In January 2001, the NRC terminated the SUB-1385 license and released the Radioactive Material Storage Bunker in Building 20 for unrestricted use. The licensee stated in a July 11, 2007, telephone conference, that it had not used the Radioactive Material Storage Bunker in Building 20 since it had been released for unrestricted use by the NRC in 2001.

At the 3423 N. Martin Luther King Jr. Blvd. address, the licensee maintained a facility for the calibration of portable radiation survey instruments and the storage of radioactive material. The licensee ceased using the calibration/storage facility and moved all radiation sources and environmental samples to its new calibration facility at 815 Terminal Road, Lansing, Michigan, prior to conducting final status surveys in November 2000 to verify that the 3423 N. Martin Luther King Jr. Blvd. facility could be released for unrestricted use.

The licensee conducted surveys of the facilities as part of its decommissioning activities and provided this information to the NRC to demonstrate that the radiological condition there is consistent with radiological criteria for unrestricted use in 10 CFR Part 20, Subpart E. The licensee was not required to submit a decommissioning plan to the NRC since any decommissioning activities and procedures implemented were consistent with those approved for routine operations. No radiological remediation activities are required to complete the proposed action.

Need for the Proposed Action

The licensee is requesting this license amendment because it has moved out of the facilities, and is conducting licensed activities at another location. The NRC is fulfilling its responsibilities under the Atomic Energy Act to make a decision on the proposed action for decommissioning that ensures that residual radioactivity is reduced to a level that is protective of the public health and safety and the environment, and allows the facilities to be released for unrestricted use.

Environmental Impacts of the Proposed Action

The NRC staff reviewed the information provided and surveys performed by the licensee to demonstrate that the release of the facilities is consistent with the radiological criteria for unrestricted use specified in 10 CFR 20.1402. Based on its review, the staff determined that there were no radiological impacts associated with the proposed action because no radiological remediation activities were required to complete the proposed action, and that the radiological criteria for unrestricted use in § 20.1402 have been met.

Based on its review, the staff determined that the radiological environmental impacts from the proposed action for the facilities are bounded by the “Generic Environmental Impact Statement in Support of Rulemaking on Radiological Criteria for License Termination of NRC-Licensed Nuclear Facilities” (NUREG-1496). Additionally, no non-radiological or cumulative impacts were identified. Therefore, the NRC has determined that the proposed action will not have a significant effect on the quality of the human environment.

Alternatives to the Proposed Action

The only alternative to the proposed action is to take no action. Under the no-action alternative, the facilities would remain under an NRC license and would not be released for unrestricted use. Denial of the license amendment request would result in no change to current conditions. The no-action alternative is not acceptable because it is inconsistent with 10 CFR 30.36, which requires that decommissioning of by-product material facilities be completed and approved by the NRC after licensed activities cease. This alternative would impose an unnecessary regulatory burden in controlling access to the former facility, and limit potential benefits from the future use of the facility.

Conclusion

The NRC staff concluded that the proposed action is consistent with the NRC's unrestricted release criteria specified in 10 CFR 20.1402. Because the proposed action will not significantly impact the quality of the human environment, the NRC staff concludes that the proposed action is the preferred alternative.

Agencies and Persons Consulted

The NRC staff has determined that the proposed action will not affect listed species or critical habitats. Therefore, no further consultation is required under Section 7 of the Endangered Species Act. Likewise, the NRC staff has determined that the proposed action is not a type of activity that has potential to cause effect on historic properties. Therefore, consultation under section 106 of the National Historic Preservation Act is not required.

The NRC consulted with the Michigan Department of Community Health (DCH). The Michigan DCH, Bureau of Health Systems, Division of Health Facilities and Services, was provided the draft EA for comment on July 13, 2007. Mr. Bruce Matkovich, Manager, Radiation Safety Section, with the Michigan DCH, responded to the NRC by e-mail on July 16, 2007, indicating that the State had no comments regarding the NRC Environmental Assessment for the release of the Michigan Department of Environmental Quality facilities.

II. Finding of No Significant Impact

On the basis of the EA in support of the proposed license amendment, the NRC has determined that the proposed action will not have a significant effect on the quality of the human environment. Thus, the NRC has not prepared an environmental impact statement for the proposed action.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. If you do not have access to ADAMS, or if there are problems in accessing the documents located in ADAMS, contact the NRC Public Document Room (PDR) Reference staff at 1-800-397-4209, 301-415-4737, or by e-mail to pdr@nrc.gov. The documents and ADAMS accession numbers related to this notice are:

1. Robert D. Skowronek, Michigan Department of Environmental Quality, letter to Patricia Pelke, U.S. Nuclear Regulatory Commission, February 22, 2007 (ADAMS Accession No. ML070590426).

2. Telephone Conversation Record, Initiated by William Snell, U.S. Nuclear Regulatory Commission, to Robert Skowronek, Michigan Department of Environmental Quality, on July 11, 2007 (ADAMS Accession No. ML071930403).

3. U.S. Nuclear Regulatory Commission, “Environmental Review Guidance for Licensing Actions Associated with NMSS Programs,” NUREG-1748, August 2003.

4. U.S. Nuclear Regulatory Commission, “Generic Environmental Impact Statement in Support of Rulemaking on Radiological Criteria for License Termination of NRC-Licensed Nuclear Facilities,” NUREG-1496, August 1994.

5. NRC, NUREG-1757, “Consolidated NMSS Decommissioning Guidance,” Volumes 1-3, September 2003.

Documents may also be viewed electronically on the public computers located at the NRC's PDR, O 1 F21, One White Flint North, 11555 Rockville Pike, Rockville, MD 20852. The PDR reproduction contractor will copy documents for a fee.

Dated at Lisle, Illinois, this 20th day of July 2007.
For the Nuclear Regulatory Commission.
Patrick L. Louden,
Chief, Decommissioning Branch, Division of Nuclear Materials Safety, Region III.

[FR Doc. E7-15040 Filed 8-1-07; 8:45 am]

BILLING CODE 7590-01-P